DEPARTMENT OF AGRICULTURE

Agricultural Marketing Service

7 CFR Part 1217

[Document No. AMS-SC-15-0079]

Softwood Lumber Research, Promotion, Consumer Education and Industry Information Order; Withdrawal for a Continuance Referendum

AGENCY: Agricultural Marketing Service, Department of Agriculture.

ACTION: Withdrawal of referendum order.

SUMMARY: On February 23, 2016, a document directing that a referendum be conducted in August 2016 among eligible domestic manufacturers and importers of softwood lumber to determine whether they favor continuance of the Softwood Lumber Research, Promotion, Consumer Education and Industry Information Order (Order) was published in the Federal Register (81 FR 8822). The document is hereby withdrawn. The referendum has been postponed until a future date to be determined by the Secretary.

DATES: The document published February 23, 2016 (81 FR 8822) is withdrawn as of July 20, 2016.

FOR FURTHER INFORMATION CONTACT: Maureen Pello, Marketing Specialist, PED, SC, AMS, USDA, 1400 Independence Avenue SW., Room 1406-S, Stop 0244, Washington, DC 20250-0244; telephone: (202) 720-9915, (503) 632-8848 (direct line); facsimile: (202) 205-2800; or electronic mail: Maureen.Pello@ams.usda.gov.

SUPPLEMENTARY INFORMATION: This document is issued under the Order (7 CFR part 1217). The Order is authorized under the Commodity Promotion, Research and Information Act of 1996 (7 U.S.C. 7411-7425).

This document withdrawals a referendum order that was published in the Federal Register on February 23, 2016, directing that a referendum be conducted in August 2016 among eligible softwood lumber domestic manufacturers and importers to determine whether they favor continuance of the Order. The referendum has been postponed until a future date to be determined by the Secretary.

Dated: July 14, 2016.
Elanor Starmer,
Administrator.

[FR Doc. 2016-17038 Filed 7-19-16; 8:45 am]

BILLING CODE 3410-02-P